DEPARTMENT OF COMMERCE

National Oceanic and Atmospheric Administration

50 CFR Part 300

RIN 0648-BK85

Magnuson-Stevens Fishery Conservation and Management Act; Seafood Import Monitoring Program

AGENCY: International Affairs, Trade, and Commerce, National Oceanic and Atmospheric Administration (NOAA), Commerce.

ACTION: Proposed rule; withdrawal.

SUMMARY: The National Marine Fisheries Service (NMFS) withdraws the Seafood Import Monitoring Program (SIMP) proposed rule, which was published in the Federal Register on December 28, 2022. The SIMP proposed rule intended to add species to SIMP pursuant to the Magnuson-Stevens Fishery Conservation and Management Act. In addition, the proposed rule would have amended SIMP regulations to clarify the responsibilities and definitions, and make other necessary administrative modernizations. In light of the extensive public comments received regarding the December 2022 proposed rule, NMFS has decided to conduct a comprehensive program review in order to strengthen the impact and effectiveness of SIMP. Critical aspects of that review will include better defining the problem that we are working to address and establishing clear, achievable goals through constructive engagement with our stakeholders. Comments received on the December 2022 proposed rule will also be taken into consideration as part of the review. While NMFS conducts this comprehensive review, SIMP will continue to operate in its current form, all existing requirements remain in force, and the list of priority species currently subject to SIMP requirements remains unchanged. In addition, NMFS will continue to support industry and other stakeholders in SIMP compliance during the review.

DATES: The proposed rule published on December 28, 2022 (87 FR 79836) is withdrawn on November 16, 2023.

FOR FURTHER INFORMATION CONTACT: Rachael Confair, Office of International Affairs, Trade, and Commerce, NMFS, 301-427-8361, rachael.confair@noaa.gov.

SUPPLEMENTARY INFORMATION:

Background

On December 28, 2022, NMFS issued its SIMP proposed rule (85 FR 58321). The proposed rule was initially open for 90 days of public comment, and this period was extended for an additional 30 days. It included a proposal to incorporate additional priority species in SIMP, as well as to make other administrative changes.

SIMP has been in effect for more than 1,100 unique species, representing 13 species groups, for approximately 4 years. SIMP was established as a screening tool to identify and deter products derived from Illegal, Unreported, and Unregulated (IUU) fishing, as well as misrepresented seafood from entering the U.S. market. The information required under SIMP can lead to the interdiction of IUU fish and fish products as they enter the United States, but it was not designed to achieve that outcome, nor has that been typically how it functions. It is primarily a permitting, reporting and recordkeeping program that conducts post-entry audits, and in some cases, enforcement inspections and, when potentially illegal imports are identified, follow-up investigations.

Program Review

It is clear, based on the comments received, combined with feedback received over the past few years, that this is the right time to review SIMP. There are a diverse array of viewpoints, and sometimes unrealistic expectations, on what SIMP should or could be doing. In order to strengthen our impact and effectiveness, it is important to better define our goals, and then identify clear mechanisms to achieve them.

As an integral part of this undertaking, NMFS will actively seek engagement and input from all relevant stakeholder groups, including industry, non-governmental organizations, other Federal agencies, congressional representatives, and foreign governments. NMFS intends to bring together an informal interagency working group to review our approach and identify possible strategies for increasing the effectiveness and impact of SIMP on countering IUU fishing and seafood fraud. This collaborative effort will also explore alternative or complementary approaches available to address seafood traceability for NMFS and its interagency partners. Some questions that NMFS will consider during the review are:

1. Determine the goals: What is the problem or problems that SIMP was designed to address? Are there changes that should be made to the goals? What do we want to achieve and what is the best way to do it?

2. Determine whether the goals are achievable: Are the goals feasible? What does success look like? Are there limitations of resources, technology, or other elements that must be considered in determining whether the goals are achievable?

3. Determine what is needed to achieve the goals: Are there additional authorities needed for NOAA or other agencies to achieve these goals? What new tools are needed to accomplish this goal? Are there existing tools that could be used more effectively? How can we use a whole-of-government approach to achieve these goals?

NMFS will review and consider all aspects of the Program, including the initial constraints that shaped SIMP's original framework. NMFS will use both the public comments received and internal and external program assessments to refine the areas of focus. NMFS also plans to conduct public listening sessions to solicit written and oral feedback from public stakeholders, as well as participating in other engagement opportunities with stakeholders or groups of stakeholders.

The withdrawal of this proposed rule does not preclude NMFS from reinitiating rulemaking concerning the issues addressed in the proposed rule. Should that occur, NMFS will re-propose the action and provide new opportunities for comment. More information on SIMP and the NMFS review are available online at the Agency's website (https://www.fisheries.noaa.gov/action/noaa-fisheries-withdrawal-its-simp-proposed-rule-and-announcement-comprehensive-review).

Authority: 16 U.S.C. 1801 et seq.

Dated: November 13, 2023.
Alexa Cole,
Director; Office of International Affairs, Trade, and Commerce, National Marine Fisheries Service.

[FR Doc. 2023-25309 Filed 11-14-23; 8:45 am]

BILLING CODE 3510-22-P